DEPARTMENT OF TRANSPORTATION

Coast Guard

33 CFR Part 167

[USCG-1999-5198]

Port Access Route Study for Approaches to Los Angeles/Long Beach

AGENCY: Coast Guard, DOT.

ACTION: Notice of study results.

SUMMARY: The Coast Guard announces the results of a Port Access Route Study which evaluated the vessel routing and traffic management measures for the approaches to Los Angeles and Long Beach. The study was necessary because of major port improvements made to both ports. It was completed in July, 1999. This document summarizes the study recommendations.

ADDRESSES: Comments and material received from the public, as well as documents mentioned in this preamble as being available in the docket, are part of docket USCG-1999-5198 and are available for inspection or copying at the Docket Management Facility, U.S. Department of Transportation, room PL-401, 400 Seventh Street SW., Washington, DC, between 9 a.m. and 5 p.m., Monday through Friday, except Federal holidays. You may also find this docket on the Internet at http://dms.dot.gov.

FOR FURTHER INFORMATION CONTACT: For questions on this notice, contact Lieutenant Commander Brian Tetreault, Vessel Traffic Management Officer, Eleventh Coast Guard District, telephone 510-437-2951, e-mail Btetreault@d11.uscg.mil; or Mike Van Houten, Aids to Navigation Section Chief, Eleventh Coast Guard District, telephone 510-437-2968, e-mail MVanHouten@d11.uscg.mil. For questions on viewing the docket, call Dorothy Walker, Chief, Dockets, Department of Transportation, telephone 202-366-9329.

SUPPLEMENTARY INFORMATION: You may obtain a copy of the Port Access Route Study (PARS) by contacting either person at the Eleventh Coast Guard District listed under FOR FURTHER INFORMATION CONTACT. A copy is also available in the public docket at the address listed under the ADDRESSES section and electronically on the DMS Web Site at http://dms.dot.gov.

Geographic coordinates. All geographic coordinates cited in this notice utilize the North American Datum of 1983 (NAD 83).

Definitions

The following definitions should help you review this document:

Precautionary area means a routing measure comprising an area within defined limits where ships must navigate with particular caution and within which the direction of traffic flow may be recommended.

Regulated Navigation Area or RNA is a water area within a defined boundary for which regulations for vessels navigating within the area have been established under this part.

Separation Zone or line means a zone or line separating the traffic lanes in which ships are proceeding in opposite or nearly opposite directions; or from the adjacent sea area; or separating traffic lanes designated for particular classes of ships proceeding in the same direction.

Traffic lane means an area within defined limits in which one-way traffic is established.

Traffic Separation Scheme or TSS means a routing measure aimed at the separation of opposing streams of traffic by appropriate means and by the establishment of traffic lanes.

Vessel routing system means any system of one or more routes or routing measures aimed at reducing the risk of casualties; it includes traffic separation schemes, two-way routes, recommended tracks, areas to be avoided, inshore traffic zones, roundabouts, precautionary areas, and deep-water routes.

Background and Purpose

When Did the Coast Guard Conduct This Port Access Route Study (PARS)?

We announced the PARS in a document published in the Federal Register on March 11, 1999 (63 FR 12140) and completed the study in July, 1999.

Why Did the Coast Guard Conduct the PARS?

A PARS was needed to evaluate the effects of port improvement projects for the ports of Los Angeles and Long Beach on navigational safety and vessel traffic management efficiency, and to recommend any necessary changes to existing routing measures. This study recommends modifications to the existing TSS's.

The study area included the navigable waters of Los Angeles and Long Beach Harbors, the Los Angeles/Long Beach TSS, and all waters bounded by the coastline and the following coordinates:

Latitude | Longitude
33°47.00′ N | 118°25.40′ W.
33°47.00′ N | 118°38.60′ W.
33°15.50′ N | 118°38.60′ W.
33°15.50′ N | 117°52.70′ W.
33°35.30′ N | 117°52.70′ W.

Major port improvement projects for the Ports of Los Angeles and Long Beach began in 1995 and should be completed by June, 2000. These projects include the following:

• Lengthening of the Los Angeles Approach Channel to extend approximately 3.5 nautical miles beyond the Los Angeles breakwater.

• Deepening of the Los Angeles Approach Channel to a project depth of 81 feet.

• Slight shift of the Long Beach Approach to a 355 degrees True inbound course.

• Deepening of the Long Beach Approach Channel to a project depth of 69 feet.

Fill and construction activities within the Los Angeles/Long Beach Harbors and development of a shallow water habitat have constricted the amount of room available for small commercial and recreational traffic to maneuver within the Outer Harbor and in the area immediately outside the San Pedro, Middle, and Long Beach breakwaters. This has the effect of concentrating traffic flows and placing small marine traffic more directly in competition with deep draft traffic for use of the Precautionary Area.

What Data Did the Coast Guard Use To Help Conduct the PARS?

Recommendations relied heavily on the comments received during the PARS. While all comments on related issues of vessel routing were welcome, the notice of study solicited comments on the following specific questions to help focus the study:

1. What navigational hazards do vessels operating in the study area face? Will there be additional hazards once port improvement projects are completed?

2. Are there strains on the current vessel routing system? Will there be additional strains once port improvement projects are completed?

3. Are modifications to the existing vessel routing measures needed to address existing or future hazards and strains and improve traffic management efficiency in the study area?

4. Do you have any specific recommendations regarding aids to navigation design for the lengthened approach channels?

Three comment letters were received and indicated strong overall support for the study recommendations. We also reviewed the results of a 1982 LA/LB Port Access Route Study (47 FR 27430, June 24, 1982) and a 1995 Port Access Route Study (61 FR 55248, October 25, 1996) which focused on vessel traffic management measures along the California coast from San Francisco to Los Angeles.

Study Recommendations

The study recommends three changes to the existing vessel routing and traffic management measures.

1. Expand the Existing LA/LB Precautionary Area

The study found that the existing Precautionary Area should be expanded to provide enhanced navigational safety in light of the pending and planned improvements to the port facilities and navigational channels previously discussed. The port improvements discussed above will allow even larger vessels to call on Los Angeles and Long Beach. These larger, less maneuverable ships will be constrained to the channels. The study also noted that the current practice of freighters, tankers, tugs and barges, fishing boats and pleasure craft converging in the Precautionary Area would continue to present hazards for all mariners.

Expansion of the existing Precautionary Area should result in several positive impacts for safe navigation. First, the expanded Precautionary Area should give vessels of all types, sizes, and drafts more time and room to maneuver in their approach to or departure from the ports. Second, the Commander, Eleventh Coast District, is planning modifications to the San Pedro Bay RNA, promulgated at 33 CFR 165.1109, to geographically match the expanded Precautionary Area. When specified categories of vessels enter the RNA, they are required to slow. This allows more time for vessel traffic management, e.g. queuing of vessels arriving and departing during peak periods and coordinating passing arrangements. Finally, the expanded Precautionary Area should be well adapted to the lengthened Los Angeles entrance channel. This study recommends the new Precautionary Area as the area enclosed by the following geographical positions:

Latitude | Longitude
33°43.40′ N | 118°10.80′ W.
33°37.70′ N | 118°06.50′ W.
33°35.50′ N | 118°09.00′ W.
33°35.50′ N | 118°17.60′ W.
33°42.30′ N | 118°17.60′ W.

2. Relocate the Western and Southern TSSs

The study found that the existing western and southern TSSs do not yield safe or practical approaches to the improved Long Beach and Los Angeles entrance channels. The study recommends a shift of the western TSS to the south and a shift of the southern TSS to the west.

A. Western TSS

In order to reduce the maneuvering difficulties for vessels needing to use the extended Los Angeles entrance channel, the western TSS needs to be relocated to the south. The proposed coordinates should allow even the largest vessels safe transit between Los Angeles channel and the western lane. This study recommends shifting the western TSS 2.25 nautical miles (NM) to the south. The new northern edge of the northbound coastwise lane would begin at 33°38.70′ N, 118°17.60′ W, extend approximately 2.5 NM at 270° True, and turn northwest to 300° True at 33°38.70′ N, 118°20.60′ W. The new southern edge of the southbound coastwise lane would extend the existing lane at 120° True for approximately 4.45 NM before turning to 090° True at 33°35.50′ N, 118°23.43′ W. The lane will meet the Precautionary Area at 33°35.50′ N, 118°17.60′ W. Traffic lanes will remain 1 NM wide and separated by the Separation Zone formed by a line connecting the following geographical positions:

Latitude | Longitude
33° 37.70′ N | 118° 17.60′ W.
33° 36.50′ N | 118° 17.60′ W.
33° 36.50′ N | 118° 23.10′ W.
33° 43.20′ N | 118° 36.90′ W.
33° 44.90′ N | 118° 35.70′ W.
33° 37.70′ N | 118° 20.90′ W.

B. Southern TSS

In order to reduce the maneuvering difficulties for vessels needing to use the extended Los Angeles entrance channel and the Long Beach channel, the southern TSS should be shifted westward. The recommended shift aligns the southern TSS with Long Beach channel and should allow a more direct approach to Los Angeles channel. The study also noted that by shifting the existing southern TSS, oil platforms located in the TSS separation zone would no longer be in the TSS, which should increase the safety of the platforms and transiting vessels.

This study recommends the following changes to the southern TSS for the Los Angeles/Long Beach approach. The eastern edge of the northbound coastwise lane would begin at 33°20.00′ N, 118°02.30′ W, extend in the direction of 340° True and meet the Precautionary Area at 33°35.50′ N, 118°09.00′ W. The western edge of the southbound coastwise lane would begin at the Precautionary Area at 33°35.50′ N, 118°114.00′ W, extend in the direction of 160° True, and end at 33°18.70′ N, 118°06.75′ W. The Separation Zone formed by a line connecting the following geographical positions will separate inbound and outbound traffic lanes:

Latitude | Longitude
33°35.50′ N | 118°10.30′ W.
33°35.50′ N | 118°12.75′ W.
33°19.70′ N | 118°03.50′ W.
33°19.00′ N | 118°05.60′ W.

The new lanes will no longer be tapered, but will have a constant width of 1 NM wide through their entire length.

Modifications to Aids to Navigation

The PARS solicited specific recommendations regarding the aids to navigation design for the lengthened approach channels to Los Angeles and Long Beach, CA. Specific recommendations included adding, deleting, relocating and upgrading the existing buoys in these channels. The Commander, Eleventh Coast Guard District will review these recommendations and make final decisions concerning Los Angeles-Long Beach aids to navigation in light of the Coast Guard's waterways analysis management system (WAMS). Specific questions on WAMS should be directed to the Eleventh Coast Guard District's points of contact listed in FOR FURTHER INFORMATION CONTACT.

Modifications to the RNA

The Commander, Eleventh Coast Guard District is planning modifications to the San Pedro Bay RNA. A notice of proposed rulemaking (NPRM), only dealing with the RNA, will be published in the Federal Register. As previously discussed, one proposed change will make the RNA geographically the same as the precautionary area. The RNA rulemaking will also address vessel operating requirements; vessel size, speeds, draft limitations; operating conditions; pilot boarding areas; and restrictions under hazardous conditions.

Conclusion

We appreciate the comments we received concerning the PARS. We will solicit additional comments on the recommended changes to the existing routing measures we will propose in an NPRM to be published in the Federal Register before making any submission to the International Maritime Organization.

Dated: May 11, 2000.
R.C. North,
Rear Admiral, U. S. Coast Guard, Assistant Commandant for Marine Safety and Environmental Protection.

[FR Doc. 00-12572 Filed 5-18-00; 8:45 am]

BILLING CODE 4910-15-P